FEDERAL COMMUNICATIONS COMMISSION

47 CFR Part 73

[DA 01-1488; MM Docket No. 01-135, RM-10154; MM Docket No. 01-136; RM-10155; and MM Docket No. 01-137; RM-10156]

Radio Broadcasting Services; Caliente, NV; Boswell, OK; and Altus, OK

AGENCY: Federal Communications Commission.

ACTION: Proposed rule.

SUMMARY: This document proposes three allotments. The Commission requests comments on a petition filed by Schleicher County Radio proposing the allotment of Channel 291C2 at Caliente, Nevada, as the community's second local FM transmission service. Channel 291C2 can be allotted to Caliente in compliance with the Commission's minimum distance separation requirements at city reference coordinates. The coordinates for Channel 291C2 at Caliente are 37-36-54 North Latitude and 114-30-40 West Longitude. See Supplementary Information, infra.

DATES: Comments must be filed on or before August 13, 2001, and reply comments on or before August 28, 2001.

ADDRESSES: Federal Communications Commission, Washington, DC 20554. In addition to filing comments with the FCC, interested parties should serve the petitioner, his counsel, or consultant, as follows: Randy Parker, 25415 Gleen Lock, The Woodlands, Texas 77380 (Consultant for Schleicher County Radio); Ann Bavender, Fletcher, Heald & Hildreth, P.L.C., 1300 N. 17th Street, 11th Floor, Arlington, Virginia 22209 (Counsel for Boswell Broadcasting Company); and Katherine Pyeatt, 6655 Aintree Circle, Dallas, Texas (Petitioner for Atlus, Oklahoma).

FOR FURTHER INFORMATION CONTACT: Sharon P. McDonald, Mass Media Bureau, (202) 418-2180.

SUPPLEMENTARY INFORMATION: This is a synopsis of the Commission's Notice of Proposed Rule Making, MM Docket No. 01-135; MM Docket No. 01-136, and MM Docket No. 01-137, adopted June 13, 2001, and released June 22, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission requests comments on a petition filed by Boswell Broadcasting Company proposing the allotment of Channel 282C3 at Boswell, Oklahoma, as the community's first local aural transmission service. Channel 282C3 can be allotted to Boswell in compliance with the Commission's minimum distance separation requirements at city reference coordinates. The coordinates for Channel 282C3 at Boswell, Oklahoma are 34-01-38 North Latitude and 95-52-08 West Longitude.

The Commission requests comments on a petition filed by Katherine Pyeatt proposing the allotment of Channel 295C2 at Altus, Oklahoma, as the community's third local FM transmission service. Channel 295C2 can be allotted to Altus1 in compliance with the Commission's minimum distance separation requirements with a site restriction of 3.8 kilometers (2.3 miles) northeast to avoid a short-spacing to the proposed allotment of Channel 296C3 at Paducah, Texas. The coordinates for Channel 295C2 at Altus are 34-39-30 North Latitude and 99-18-03 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposed to amend 47 CFR Part 73 as follows:

PART 73—RADIO BROADCAST SERVICES

1. The authority citation for Part 73 continues to read as follows:

Authority: 47 U.S.C. 154, 303, 334 and 336.

§ 73.202 [Amended]

2. Section 73.202(b), the table of FM Allotments under Oklahoma, is amended by adding Channel 295C2 at Altus and Boswell, Channel 282C3.

3. Section 73.202(b), the table of FM Allotments under Nevada, is amended by adding Channel 291C2 at Caliente.

Federal Communications Commission.
John A. Karousos,
Chief, Allocations Branch, Policy and Rules Division, Mass Media Bureau.

[FR Doc. 01-17033 Filed 7-6-01; 8:45 am]

BILLING CODE 6712-01-P